DEPARTMENT OF ENERGY

Federal Energy Regulatory Commission

[Project No. 2088-068]

South Feather Water and Power Agency; Notice of Request for Waiver Determination

Take notice that on December 12, 2019, South Feather Water and Power Agency, applicant for relicensing the South Feather Power Project No. 2088, filed a letter requesting the Commission find that the California State Water Resources Control Board waived its authority to issue a certification for the South Feather Power Project under Section 401 of the Clean Water Act, 33 U.S.C. 1341(a)(1), as more fully explained in the filing.

Any person wishing to comment on South Feather Water Agency's request may do so.¹ The deadline for filing comments is 30 days from the issuance of this notice. The Commission encourages electronic submission of comments in lieu of paper using the “eFiling” link at http://www.ferc.gov. Persons unable to file electronically should send comments to the following address: Federal Energy Regulatory Commission, 888 First Street NE, Washington, DC 20426. Be sure to reference the project docket number (P-2088-068) with your submission.

¹ South Feather Water and Power Agency's request is part of its relicensing proceeding in Project No. 2088-068. Thus, any person that intervened in the relicensing proceeding is already a party. The filing of the request does not trigger a new opportunity to intervene.

This filing is accessible on-line at http://www.ferc.gov, using the “eLibrary” link and is available for review in the Commission's Public Reference Room in Washington, DC. There is an “eSubscription” link on the website that enables subscribers to receive email notification when a document is added to a subscribed docket(s). For assistance with any FERC Online service, please email FERCOnlineSupport@ferc.gov, or call (866) 208-3676 (toll free). For TTY, call (202) 502-8659.

Comment Date: 5:00 p.m. Eastern Time on April 3, 2020.

Dated: March 4, 2020.
Nathaniel J. Davis, Sr.,
Deputy Secretary.

[FR Doc. 2020-04878 Filed 3-9-20; 8:45 am]

BILLING CODE 6717-01-P